DEPARTMENT OF LABOR

Office of Workers' Compensation Programs

[OMB Control No. 1240-0021]

Proposed Extension of Existing Collection; Comment Request

AGENCY: Office of Workers' Compensation Programs, Labor.

ACTION: Request for public comment.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, OWCP is soliciting comments on the information collection for the Provider Enrollment Form (PE-1168).

DATES: All comments must be received on or before August 28, 2023.

ADDRESSES: You may submit comment as follows. Please note that late, untimely filed comments will not be considered.

Written/Paper Submissions: Submit written/paper submissions in the following way:

• Mail/Hand Delivery: Mail or visit DOL-OWCP, Office of Workers' Compensation Programs, U.S. Department of Labor, 200 Constitution Ave. NW, Room S-3323, Washington, DC 20210.

• OWCP will post your comment as well as any attachments, except for information submitted and marked as confidential, in the docket at https://www.regulations.gov.

FOR FURTHER INFORMATION CONTACT: Anjanette Suggs, Office of Workers' Compensation Programs, at suggs.anjanette@dol.gov (email) or by telephone at (202) 354-9660 (this is not a toll-free number).

SUPPLEMENTARY INFORMATION:

I. Background: The Office of Workers' Compensation Programs (OWCP) is the agency responsible for administration of the Federal Employees' Compensation Act (FECA), 5 U.S.C. 8101 et seq., the Black Lung Benefits Act (BLBA), 30 U.S.C. 901 et seq., and the Energy Employees Occupational Illness Compensation Program Act of 2000 (EEOICPA), 42 U.S.C. 7384 et seq. These statutes require OWCP to pay for appropriate medical and vocational rehabilitation services provided to beneficiaries. In order for OWCP's billing contractor to pay providers of these services with its automated bill processing system, providers must “enroll” with one or more of the OWCP programs that administer the statutes by submitting certain profile information, including identifying information, tax I.D. information, and whether they possess specialty or sub-specialty training. Form OWCP-1168 is used to obtain this information from each provider. This information collection is currently approved for use through December 31, 2023.

II. Desired Focus of Comments: OWCP is soliciting comments concerning the proposed information collection (ICR) titled “Provider Enrollment Form”, PE-1164. The Department of Labor is particularly interested in comments which:

• Evaluate whether the proposed collection of information is necessary for the proper performance of the functions of the agency, including whether the information will have practical utility;

• Evaluate the accuracy of the agency's estimate of the burden of the proposed collection of information, including the validity of the methodology and assumptions used in the estimate;

• Suggest methods to enhance the quality, utility and clarity of the information to be collected; and

• Minimize the burden of the collection of information on those who are to respond, including through the use of appropriate automated, electronic, mechanical, or other technological collection techniques or other forms of information technology, e.g., permitting electronic submissions of responses.

Background documents related to this information collection request are available at https://regulations.gov and at DOL-OWCP located at 200 Constitution Avenue NW, Room S3323, Washington, DC 20210. Questions about the information collection requirements may be directed to the person listed in the FOR FURTHER INFORMATION section of this notice.

III. Current Actions: This information collection request concerns the Provider Enrollment Form, PE-1164. OWCP has updated the data with respect to the number of respondents, responses, burden hours, and burden costs supporting the information collection requests from the previous information request.

Type of Review: Extension.

Agency: Office of Workers' Compensation Programs.

Title: Provider Enrollment Form.

OMB Number: 1240-0021.

Agency Number: OWCP-1168.

Affected Public: Businesses or other for-profit.

Total Respondents: 23,318.

Total Responses: 23,318.

Time per Response: 25 minutes.

Estimated Total Burden Hours: 9,719.

Total Burden Cost (capital/startup): $0.

Total Burden Cost (operating/maintenance): $201,601.81.

Comments submitted in response to this notice will be summarized in the request for Office of Management and Budget approval of the information collection request; they will also become a matter of public record and will be available at https://reginfo.gov.

Anjanette C. Suggs,
Agency Clearance Officer, Office of Workers' Compensation Programs, US Department of Labor.

[FR Doc. 2023-13813 Filed 6-28-23; 8:45 am]

BILLING CODE 4510-CR-P